ENVIRONMENTAL PROTECTION AGENCY

[ER-FRL-6648-5]

Environmental Impact Statements; Notice of Availability

Responsible Agency: Office of Federal Activities, General Information (202) 564-7167 or http://www.epa.gov/compliance/nepa/.

Weekly receipt of Environmental Impact Statements

Filed February 9, 2004, through February 13, 2004,

Pursuant to 40 CFR 1506.9.

EIS No. 040066, Draft EIS, NPS, CA, Point Reyes National Seashore (PRNS) and the North District of Golden Gate National Recreation Area (GGNRA) Fire Management Plan, Implementation, Marin County, CA, Comment Period Ends: April 20, 2004, contact: Roger Wong (415) 464-5243. This document is available on the Internet at: http://www.nps.gov/pore/.

EIS No. 040067, Final Supplement, NOA, Atlantic Sea Scallop Fishery Management Plan (FMP), Amendment 10, Introduction of Spatial Management of Adult Scallops, Essential Fish Habitat (EFH), from the Gulf of Maine and Georges Banks to Cape Hatteras, NC, Wait Period Ends: March 22, 2004, contact: Paul Howard (978) 465-0492. This document is available on the Internet at: http://www.nefmc.org.

EIS No. 040068, Final Supplement, COE, FL, Central and Southern Florida Project, Tamiami Trail Feature (US Highway 41), Modified Water Deliveries to Everglades National Park, Dade County, FL, Wait Period Ends: March 22, 2004, contact: Jon Moulding (904) 232-2286. This document is available on the Internet at: http//www.saj.usace.army.mil/dp/tamiami.htm.

EIS No. 040069, Draft EIS, COE, KY, Pike County (Levisa Fork) Section 202 Flood Damage Reduction Project, Design, Construct and Implement Flood Damage Reduction Measures, Appalachian Mountain, Big Sandy River, Pike County, KY, Comment Period Ends: April 5, 2004, contact: Pete K. Dodgion (304) 399-5636.

EIS No. 040070, Draft EIS, NPS, AZ, Saguaro National Park Fire Management Plan, Implementation, Tucson, AZ, Comment Period Ends: April 20, 2004, contact: Sarah Craighead (520) 733-5130.

EIS No. 040071, Final EIS, AFS, PR, Caribbean National Forest, Constructing the Rio Sabana Picnic Area Construction, Rio Sabana Trail Reconstruction and Highway PR 191 Reconstruction from Km. 21.3 to Km 20.0, Special-Use-Permit, PR, Wait Period Ends: March 22, 2004, contact: Manuel Ortiz (787) 888-5669.

Amended Notices

EIS No. 040025, Draft EIS, USN, MS, Purchase of Land in Hancock County, Mississippi, for a Naval Special Operations Forces Training Range, To Improve Riverine and Jungle Training Available, John C. Stennis Space Center, Hancock County, MS, Comment Period Ends: March 15, 2004, contact: Richard Davis (843) 820-5589. Revision of Federal Register Notice published on 01/30/2004: Change in contact person telephone number.

EIS No. 040059, Draft EIS, AFS, AZ, Arizona Snowbowl Facilities Improvements, Proposal to Provide a Consistent/Reliable Operating Season, Coconino National Forest, Coconino County, AZ, Comment period ends: April 12, 2004, contact: Ken Jacobs (928) 774-1147. Revision of Federal Register Notice Published on 2/13/2004: CEQ comment period ending 3/29/2004 has been corrected to 4/12/2004 and the Web site has been corrected to http://www.fs.fed.us/r3/coconino/nepa/index.shtml.

Dated: February 17, 2004.
Ken Mittelholtz,
Environmental Protection Specialist, Office of Federal Activities.

[FR Doc. 04-3720 Filed 2-19-04; 8:45 am]

BILLING CODE 6560-50-P